ENVIRONMENTAL PROTECTION AGENCY

[EPA-HQ-OPP-2007-1008; FRL-8347-4]

Pesticides; Draft Guidance for Pesticide Registrants on Label Statements Regarding Third-Party Endorsements and Cause Marketing Claims; Extension of Comment Period

AGENCY: Environmental Protection Agency (EPA).

ACTION: Notice; extension of comment period.

SUMMARY: EPA issued a notice in the Federal Register of October 31, 2007, announcing the availability of and seeking comment on the draft Pesticide Registration Notice (PR Notice) entitled “Label Statements Regarding Third-Party Endorsements & Cause Marketing Claims.” This document is extending the comment period for 90 days, from December 31, 2007, to March 27, 2008.

DATES: Comments, identified by docket identification (ID) number EPA-HQ-OPP-2007-1008 must be received on or before March 27, 2008.

ADDRESSES: Follow the detailed instructions as provided under ADDRESSES in the Federal Register document of October 31, 2007.

FOR FURTHER INFORMATION CONTACT: Nicole Zinn, Immediate Office, (7501P), Office of Pesticide Programs, Environmental Protection Agency, 1200 Pennsylvania Ave., NW., Washington, DC 20460-0001; telephone number: 703-308-7076; e-mail address: zinn.nicole@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

When preparing comments follow the procedures and suggestions given in Unit I.B of the SUPPLEMENTARY INFORMATION of the October 31, 2007 Federal Register document.

C. How and to Whom Do I Submit Comments?

To submit comments, or access the public docket, please follow the detailed instructions as provided in ADDRESSES and Unit I.B of the SUPPLEMENTARY INFORMATION of the October 31, 2007 Federal Register document. If you have questions, consult the person listed under FOR FURTHER INFORMATION CONTACT.

II. What Action is EPA Taking?

This document extends the public comment period established in the Federal Register of October 31, 2007, 72 FR 61638 (FRL-8152-6). In that document, EPA announced the availability of and sought comment on the draft Pesticide Registration Notice (PR Notice) entitled “Label Statements Regarding Third-Party Endorsements & Cause Marketing Claims.” In response to requests from multiple entities, EPA is hereby extending the comment period, which was set to end on December 31, 2007, to March 27, 2008.

III. What is the Agency's Authority for Taking this Action?

This action is taken as provided in Section 21(c) of the Federal, Insecticide, Fungicide, and Rodencticide Act, which reads:

In addition to any other authority relating to public hearings and solicitation of views, in connection with the suspension or cancellation of a pesticide product registration or any other actions authorized under this subchapter, the Administrator may, at the Administrator's discretion, solicit the views of all interested persons, either orally or in writing, and seek such advice from scientists, farmers, farm organizations, and other qualified persons as the Administrator deems proper.

List of Subjects

Environmental protection, Pesticides and pests, Administrative practice and procedure, Agricultural commodities.

Dated: December 19, 2007.
Debra Edwards,
Director, Office of Pesticide Programs.

[FR Doc. E7-25089 Filed 12-28-07; 8:45 am]

BILLING CODE 6560-50-S